DEPARTMENT OF THE INTERIOR

National Park Service

Notice of Intent to Expand the Scope of the General Management Plan/ Environmental Impact Statement for the Addition at Big Cypress National Preserve, FL

SUMMARY: The National Park Service (NPS) is expanding the scope of the General Management Plan (GMP)/Environmental Impact Statement (EIS) being prepared for the Addition lands. As part of this planning effort, the NPS will include a wilderness study to determine if any portions of the Addition Lands of Big Cypress National Preserve (Preserve) should be recommended for inclusion in the National Wilderness Preservation System as defined in the Wilderness Act of 1964. The NPS also will prepare an Off-Road Vehicle Management Plan that will address in more detail the management of off-road vehicles in the Addition Lands. These new elements will be included as part of the GMP/EIS currently in preparation. A Notice of Intent to prepare an EIS with that GMP was published in the Federal Register of June 12, 2001. That EIS now will be expanded to include an evaluation of the impacts associated with possible designation of wilderness and off-road vehicle management within the Addition Lands of the Preserve. This notice is being furnished as required by National Environmental Policy Act (NEPA) regulation 40 CFR 1501.7.

To facilitate sound planning and analysis of environmental impact, the NPS is gathering information necessary for the preparation of the GMP, the Wilderness Study, Off-Road Vehicle Management Plan and the associated EIS and is obtaining suggestions and information from other agencies and the public on the scope of issues to be addressed. Comments and participation in this scoping process are invited.

DATES: Open house meeting places and times will be announced by press release to the Naples Daily News and the Miami Herald and on the park Web site at: www.nps.gov.gov/bicy.

ADDRESSES: Persons wishing to comment may do so by any one of several methods. They may attend open houses noted above. They may mail comments to Big Cypress Planning Team, National Park Service, Denver Service Center, P.O. Box 25287, Denver, Colorado 80225. They also may comment via the internet at http://parkplanning.nps.gov or e-mail to BICY_GMP_Planning@ nps.gov. Finally, they may hand-deliver comments to the Big Cypress National Preserve headquarters in Ochopee, Florida.

It is the practice of the NPS to make all comments, including names and addresses of respondents who provide that information, available for public review following the conclusion of the [NEPA] process. Individuals may request that the NPS withhold their name and/or address from public disclosure. If you wish to do this, you must state this prominently at the beginning of your comment. Commentators using the website can make such a request by checking the box “keep my contact information private.” NPS will honor such requests to the extent allowable by law, but you should be aware that NPS may still be required to disclose your name and address pursuant to the Freedom of Information Act.

FOR FURTHER INFORMATION CONTACT: Superintendent, Big Cypress National Preserve, 33100 Tamiami Trail East, Ochopee, Florida, 34141-1000, telephone: 239-695-1103.

SUPPLEMENTARY INFORMATION: Persons who previously submitted comments on the scope of the EIS as it relates to the GMP need not resubmit those comments. The NPS already is considering that input as planning continues. However, persons who have not previously submitted comments on the scope of the EIS, or who wish to submit additional comments related to the scope of the EIS in consideration of the Wilderness Study and Off-Road Vehicle Management plan are encouraged to do so. The environmental review of the GMP, Wilderness Study, Off-Road Vehicle Management Plan, and EIS for the Addition Lands of the Preserve will be conducted in accordance with requirements of the NEPA (42 U.S.C. 4371 et seq.), NEPA regulations (40 CFR 1500 through 1508), other appropriate Federal regulations, and NPS procedures and policies for compliance with those regulations.

Authority: The authority for publishing this notice is 40 CFR 1506.6.

The responsible official for this draft GMP/EIS is the Regional Director for the Southeast Region, Patricia A. Hooks.

Dated: March 16, 2006.
Patricia A. Hooks,
Regional Director, Southeast Region.

[FR Doc. E6-6151 Filed 4-24-06; 8:45 am]

BILLING CODE 4310-V6-P